SECURITIES AND EXCHANGE COMMISSION

Sunshine Act Meeting

Notice is hereby given, pursuant to the provisions of the Government in the Sunshine Act, Public Law 94-409, that the Securities and Exchange Commission will hold an Open Meeting on Wednesday, October 26, 2016 at 10:00 a.m., in the Auditorium, Room L-002.

The subject matter of the Open Meeting will be:

• The Commission will consider whether to propose amendments to the proxy rules relating to the use of universal proxy cards and disclosure about voting options and voting standards in director elections.

• The Commission will consider whether to adopt rule amendments related to Securities Act Rules 147 and 504 to facilitate intrastate and regional securities offerings and whether to repeal Securities Act Rule 505.

At times, changes in Commission priorities require alterations in the scheduling of meeting items.

For further information and to ascertain what, if any, matters have been added, deleted, or postponed, please contact Brent J. Fields in:

The Office of the Secretary at (202) 551-5400.

Dated: October 19, 2016.
Brent J. Fields,
Secretary.

[FR Doc. 2016-25807 Filed 10-21-16; 11:15 am]

BILLING CODE 8011-01-P